DEPARTMENT OF COMMERCE

National Oceanic and Atmospheric Administration

Proposed Information Collection; Comment Request; Economic Surveys of Specific U.S. Commercial Fisheries

AGENCY: National Oceanic and Atmospheric Administration (NOAA), Commerce.

ACTION: Notice.

SUMMARY: The Department of Commerce, as part of its continuing effort to reduce paperwork and respondent burden, invites the general public and other Federal agencies to comment on proposed and/or continuing information collections, as required by the Paperwork Reduction Act of 1995. The purpose of this notice is to allow for 60 days of public comment.

DATES: To ensure consideration, comments regarding this proposed information collection must be received on or before June 12, 2020.

ADDRESSES: Direct all written comments to Adrienne Thomas, PRA Officer, NOAA, 151 Patton Avenue, Room 159, Asheville, NC 28801 (or via the internet at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Dr. Joe Terry, Office of Science and Technology, 1315 East-West Hwy., Bldg. SSMC3, Silver Spring, MD 20910-3282, (858) 454 -2547, joe.terry@noaa.gov.

SUPPLEMENTARY INFORMATION:

I. Abstract

The Office of Science and Technology is sponsoring this collection, which consists of economic surveys that will be conducted in selected commercial fisheries for the West Coast, the Southeast, Hawaii, and the U.S. Pacific Islands territories.

The requested information will include different components of operating costs/expenditures, earnings, employment, ownership, vessel characteristics, effort/gear descriptors, employment, and demographic information for the various types of fishing vessels operating in the 15 U.S. commercial fisheries listed below.

1. West Coast Limited Entry Groundfish Fixed Gear Fishery

2. West Coast Open Access Groundfish, Non-tribal Salmon, Crab, and Shrimp Fisheries

3. American Samoa Longline Fishery

4. Hawaii Longline Fishery

5. Hawaii Small Boat Fishery

6. American Samoa Small Boat Fishery

7. American Samoa (ESAS), Guam, and The Commonwealth of The Northern Mariana Islands (CNMI) Small Boat-Based Fisheries

8. Mariana Archipelago Small Boat Fishery

9. USVI Small-Scale Fisheries

10. Puerto Rico Small-Scale Fisheries

11. Gulf of Mexico Inshore Shrimp Fishery

12. Golden Crab Fisheries in the U.S. South Atlantic Region

13. West Coast Coastal Pelagic Fishery

14. West Coast Swordfish Fishery

15. West Coast North Pacific Albacore Fishery

A variety of laws, Executive Orders (EOs), and NOAA Fisheries strategies and policies include requirements for economic data and the analyses they support. When met adequately, those requirements allow better-informed conservation and management decisions on the use of living marine resources and marine habitat in federally managed fisheries. Obtaining these data improves the ability of NOAA Fisheries and the Regional Fishery Management Councils (Councils) to monitor, explain and predict changes in the economic performance and impacts of federally managed commercial fisheries. Measures of economic performance include costs, earnings, and profitability (net revenue); productivity and economic efficiency; capacity; economic stability; the level and distribution of net economic benefits to society; and market power. The economic impacts include sector, community or region-specific, and national employment, sales, value-added, and income impacts. Economic data are required to support more than a cursory effort to comply with or support the following laws, EOs, and NOAA Fisheries strategies and policies:

1. The Magnuson-Stevens Fishery Conservation and Management Act (MSA)

2. The Marine Mammal Protection Act (MMPA)

3. The Endangered Species Act (ESA)

4. The National Environmental Policy Act (NEPA)

5. The Regulatory Flexibility Act (RFA)

6. E.O. 12866 (Regulatory Planning and Review)

7. E.O. 13771 (Reducing Regulation and Controlling Regulatory Costs)

8. E.O. 12898 (Federal Actions to Address Environmental Justice in Minority Populations and Low-Income Populations)

9. E.O. 13840 (Ocean Policy to Advance the Economic, Security, and Environmental Interests of the United States).

10. The NOAA Fisheries Guidelines for Economic Reviews of Regulatory Actions

11. The NOAA Fisheries Strategic Plan 2019-2022 (Strategic Plan)

12. The NOAA Fisheries Ecosystem-Based Fishery Management (EBFM) Road Map

13. The NOAA Fisheries National Bycatch Reduction Strategy

14. NOAA's Catch Share Policy.

Data collections will focus each year on a different set of the 15 commercial fisheries. This cycle of data collection will facilitate economic data being available and updated for all those commercial fisheries.

There will be an effort to coordinate the data collections in order to reduce the additional burden for those who participate in multiple fisheries. To further reduce the burden, the requested information for a specific fishery will be limited to that which is not available from other sources. Participation in these data collections will be voluntary.

The proposed revisions to the information collection will: (a) Change the title of the currently approved information collection from “West Coast Limited Entry Groundfish Fixed Gear Economic Data Collection” to “Economic Surveys of Specific U.S. Commercial Fisheries”; (b) expand it to include an additional 14 fisheries, for which information had been collected under other previously approved information collections; (c) extend it for three years; and (d) increase the burden hours to the sum of the burden hours for the 15 information collections.

II. Method of Collection

The information will be collected by mail, internet, phone, and in-person interviews. In general, respondents will receive a mailed copy of the survey instrument in advance of a phone or in-person interview. Where feasible, survey respondents will have the option to respond to an on-line survey. If phone and in-person interviews are not feasible or not desired by the potential respondents, the information will be collected by mail or internet.

III. Data

OMB Control Number: 0648-0773.

Form Number(s): None.

Type of Review: Regular submission (revision of a currently approved collection).

Affected Public: Individuals or households and business or other for-profit organizations.

Estimated Number of Respondents: 2,424.

Estimated Time per Response:

West Coast Open Access Groundfish, Non-tribal Salmon, Crab, and Shrimp Economic Data Collection: 3 hours.

West Coast Limited Entry Groundfish Fixed Gear Economic Data Collection: 3 hours.

American Samoa Longline Survey: 1 hour.

Hawaii Longline Survey: 1 hour.

Hawaii Small Boat Economic Survey: 45 minutes.

American Samoa Small Boat Survey: 45 minutes.

Economic Surveys of American Samoa (ESAS), Guam, and The Commonwealth of The Northern Mariana Islands (CNMI) Small Boat-Based Fisheries (an add-on to a creel survey): 10 minutes.

Cost Earnings Survey of Mariana Archipelago Small Boat Fleet: 45 minutes.

Economic Expenditure Survey of Golden Crab Fishermen in the U.S. South Atlantic Region: 1 hour.

USVI Fisheries Economic Survey (Socio-Economic Profile of Small-Scale Commercial Fisheries (SSCF) in the U.S. Caribbean): 30 minutes.

Puerto Rico Fisheries Economic Survey (Socio-Economic Profile of Small-Scale Commercial Fisheries (SSCF) in the U.S. Caribbean): 1 hour.

Gulf of Mexico Inshore Shrimp Fishery Economic Survey: 30 minutes.

West Coast Swordfish Fishery Cost and Earnings Survey: 1 hour.

West Coast Coastal Pelagic Fishery Economic Survey: 1 hour, 40 minutes.

West Coast North Pacific Albacore Fishery Economic Survey: 1 hour.

Estimated Total Annual Burden Hours: 2,188.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 7, 2020.
Sheleen Dumas,
Department PRA Clearance Officer, Office of the Chief Information Officer, Commerce Department.

[FR Doc. 2020-07643 Filed 4-10-20; 8:45 am]

BILLING CODE 3510-22-P